INTERNATIONAL TRADE COMMISSION

[Investigation No. 337-TA-1309]

Certain Core Orientation Systems, Products Containing Core Orientation Systems, Components Thereof, and Methods of Using the Same; Notice of a Commission Determination Not To Review an Initial Determination Terminating the Investigation Based on a Consent Order Stipulation; Issuance of a Consent Order; Termination of the Investigation

AGENCY: International Trade Commission.

ACTION: Notice.

SUMMARY: Notice is hereby given that the U.S. International Trade Commission has determined not to review an initial determination (“ID”) (Order No. 31) of the presiding administrative law judge (“ALJ”) granting a joint motion to terminate the investigation as to the remaining respondents based on a consent order stipulation. The Commission has entered a consent order against respondents Boart Longyear Group Ltd.; Boart Longyear Limited; Boart Longyear Company; Boart Longyear Manufacturing and Distribution Inc.; Longyear TM, Inc.; Globaltech Corporation Pty Ltd.; Globaltech Pty Ltd.; and International Directional Services LLC (collectively, “Remaining Respondents”). The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 5, 2022, based on a complaint filed on behalf of Australian Mud Company Pty Ltd. of Australia and Reflex USA LLC of Chandler, AZ (collectively, “Complainants”). 87 FR 19704 (Apr. 5, 2022). The complaint, as supplemented, alleged violations of section 337 of the Tariff Act of 1930, as amended, 19 U.S.C. 1337, in the importation into the United States, the sale for importation, or the sale within the United States after importation of certain core orientation systems, products containing core orientation systems, components thereof, and methods of using the same by reason of infringement of claims 16-18, 22, and 23 of U.S. Patent No. 7,584,055. Id. The complaint further alleged that an industry in the United States exists or is in the process of being established. Id. The Commission's notice of investigation named as respondents: Boart Longyear Group Ltd. of West Valley City, UT; Boart Longyear Limited of Australia; Boart Longyear Company of West Valley City, UT; Boart Longyear Manufacturing and Distribution Inc. of West Valley City, UT; Longyear TM, Inc. of West Valley City, UT; Globaltech Corporation Pty Ltd. of Australia; Globaltech Pty Ltd. of Australia; Granite Construction Incorporated of Watsonville, CA; and International Directional Services LLC of Chandler, AZ. The Office of Unfair Import Investigations (“OUII”) is also named as a party in this investigation. Id. at 19704-05.

On December 14, 2022, the Commission determined not to review an ID (Order No. 28) granting a joint motion to terminate respondent Granite Construction Incorporated from the investigation based on withdrawal of the complaint.

On November 30, 2022, Complainants and the Remaining Respondents jointly moved to terminate and stay the investigation based on a consent order stipulation. The joint motion included a consent order stipulation, a proposed consent order, and a settlement agreement. OUII filed a response supporting the joint motion.

On December 19, 2022, the ALJ issued an ID (Order No. 31) granting the joint motion to terminate the investigation with respect to the Remaining Respondents based on the entry of a consent order. The ID found that the consent order stipulation and proposed consent order conform with Commission Rule 210.21(c)(3) and (4) (19 CFR 210.21(c)(3) and (4)). The ID also found that termination of the investigation with respect to the Remaining Respondents would not be contrary to the public interest. No petitions for review were filed.

The Commission has determined not to review the subject ID and to issue a consent order against respondents Boart Longyear Group Ltd.; Boart Longyear Limited; Boart Longyear Company; Boart Longyear Manufacturing and Distribution Inc.; Longyear TM, Inc.; Globaltech Corporation Pty Ltd.; Globaltech Pty Ltd.; and International Directional Services LLC. The investigation is terminated in its entirety.

The Commission vote for this determination took place on January 17, 2023.

The authority for the Commission's determination is contained in section 337 of the Tariff Act of 1930, as amended, 19 U.S.C. 1337, and in part 210 of the Commission's Rules of Practice and Procedure, 19 CFR part 210.

By order of the Commission.
Issued: January 17, 2023.
Katherine Hiner,
Acting Secretary to the Commission.

[FR Doc. 2023-01105 Filed 1-20-23; 8:45 am]

BILLING CODE 7020-02-P